DEPARTMENT OF HEALTH AND HUMAN SERVICES

Announcement of Establishment of the Physical Activity Guidelines Advisory Committee and Solicitation of Nominations for Appointment to the Committee

AGENCY: Office of Public Health and Science, Office of the Secretary, HHS.

ACTION: Notice.

Authority: 42 U.S.C. 217a, Section 222 of the Public Health Service Act, as amended. The Committee is governed by the provision of Public Law 92-463, as amended (5 U.S.C. Appendix 2), which sets forth standards for the formation and use of advisory committees.

SUMMARY: The Department of Health and Human Services (HHS) announces the establishment of a Physical Activity Guidelines Advisory Committee and is seeking nominations of qualified candidates to be considered for appointment as a member of the Committee.

DATES: Nominations for membership on the Committee must be submitted by close of business on February 21, 2007.

ADDRESSES: Nominations may be submitted by electronic mail to PA.guidelines@hhs.gov. Alternatively, nominations may be sent to the following address: CAPT Richard Troiano, PhD., Department of Health and Human Services, Office of Public Health and Science, Office of Disease Prevention and Health Promotion, Room LL-100, 1101 Wootton Parkway, Rockville, MD 20852, (240) 453-8280 (telephone), (240) 453-8281(fax).

FOR FURTHER INFORMATION CONTACT: CAPT Richard Troiano, Ph.D., Executive Secretary, Physical Activity Guidelines Advisory Committee, Department of Health and Human Services, Office of Public Health and Science, Office of Disease Prevention and Health Promotion, Room LL-100, 1101 Wootton Parkway, Rockville, MD 20852, 240/453-8280 (telephone), 240/453-8281 (fax). Additional information is available on the Internet at http://www.health.gov/PAguidelines/.

SUPPLEMENTARY INFORMATION: There is strong evidence that regular physical activity promotes health and reduces risk of many chronic diseases. Over the past 40 years, many organizations, including the Federal Government, have issued physical activity recommendations. More recently, a specific physical activity guideline was included in the 2000 and 2005 Dietary Guidelines for Americans, and the Institute of Medicine included physical activity in greater detail in its review of energy balance in the 2005 Dietary Reference Intakes for Energy, Carbohydrate, Fiber, Fat, Fatty Acids, Cholesterol, Protein, and Amino Acids. While the various recommendations illustrate scientific consensus on the health benefits of physical activity, they differ from each other in the particular recommendations and highlighted benefits.

The Physical Activity Guidelines Advisory Committee will review existing scientific literature to identify where there is sufficient evidence to develop a comprehensive set of specific physical activity recommendations. The Committee will prepare a report to the Secretary that documents scientific background and rationale for the 2008 edition of the Physical Activity Guidelines for Americans. The report will also identify areas where further scientific research is needed. The intent is to have physical activity recommendations for all Americans that will be tailored as necessary for specific subgroups of the population.

The Committee will hold three two-day meetings over the course of about a year. It is expected to begin meeting by June 2007. Pursuant to the requirements of the Federal Advisory Committee Act, the meetings will be open to the public. Individuals selected for appointment to the Committee can be invited to serve a term of up to two years. However, the Committee will terminate upon delivery of their report to the Secretary of HHS. Committee members will receive per diem and reimbursement for travel expenses incurred while conducting official business pertaining to the Committee. No stipend is authorized to be paid to Committee members for performance of duties in relation to the Committee.

To be eligible for consideration of appointment to the Committee, individuals should be knowledgeable of current scientific research in human physical activity and be respected and published experts in their fields. They should be familiar with the purpose, communication, and application of Federal guidelines and have demonstrated interest in the public's health and well-being through their research and/or educational endeavors. Expertise is sought in specific specialty areas related to physical activity and health promotion or disease prevention, including but not limited to: Health promotion and chronic disease prevention; bone, joint, muscle health and performance; obesity and weight management; risks of activity and musculoskeletal injury; and applications to special populations including children, youth, older adults, and persons with disabilities.

Nominations: The Department will consider nominations for Committee membership of individuals qualified to carry out the above-mentioned tasks. The following information should be included in the package of material submitted for each individual being nominated for consideration: 1) A letter of nomination that clearly states the name and affiliation of the nominee, the basis for the nomination (i.e., specific attributes which qualify the nominee for service in this capacity), and a statement that the nominee is willing to serve as a member of the Committee; 2) the nominator's name, address and daytime telephone number, and the address telephone number, and electronic mail address of the individual being nominated; and 3) a current copy of the nominee's curriculum vitae. The names of Federal employees should not be nominated for consideration of appointment to this Committee.

Individuals can nominate themselves for consideration of appointment to the Committee. All nominations must include the required information. Incomplete nominations will not be processed for consideration.

The Department makes every effort to ensure that the membership of DHHS Federal advisory committees is fairly balanced in terms of points of view represented and the committee's function. Every effort is made to ensure that a broad representation of geographic areas, females, ethnic and minority groups, and the disabled are given consideration for membership on DHHS Federal advisory committees. Appointment to this Committee shall be made without discrimination on the basis of age, race, ethnicity, gender, sexual orientation, disability, and cultural, religious, or socioeconomic status.

The Standards of Ethical Conduct for Employees of the Executive Branch are applicable to individuals who are appointed as members of Federal advisory committees. Individuals appointed to serve as members of Federal advisory committees are classified as Special Government Employees (SGEs). SGEs are Government employees for the purposes of the conflict of interest laws. Therefore, individuals appointed to serve as members of the Physical Activity Guidelines Advisory Committee are subject to an ethics review. The ethics review is conducted to determine if the individual has any interest and/or activities in the private sector that may conflict with performance of their official duties as a member of the Committee. Individuals appointed to serve as members of the Committee will be required to disclose information regarding financial holdings, consultancies and research grants and/or contracts.

Dated: January 17, 2007.
Penelope Slade Royall,
RADM, USPHS, Deputy Assistant Secretary for Health (Disease Prevention and Health Promotion).

[FR Doc. E7-842 Filed 1-19-07; 8:45 am]

BILLING CODE 4150-32-P